DEPARTMENT OF HOMELAND SECURITY

Coast Guard

33 CFR Part 117

[CGD05-07-093]

RIN 1625-AA09

Drawbridge Operation Regulations; Corson Inlet, New Jersey Intracoastal Waterway (NJICW), Townsend Inlet, NJ

AGENCY: Coast Guard, DHS.

ACTION: Notice of proposed rulemaking.

SUMMARY: The Coast Guard proposes to change the drawbridge operation regulations of four Cape May County Bridge Commission (the Commission) bridges: The Corson Inlet Bridge, at mile 0.9, at Strathmere; the Stone Harbor Boulevard Bridge, at NJICW mile 102.0, across Great Channel at Stone Harbor; the Two-Mile Bridge, at NJICW mile 112.2, across Middle Thorofare in Wildwood Crest; and the Townsend Inlet Bridge, at mile 0.3 in Avalon, NJ. This proposal would allow the drawbridges to operate on an advance notice basis on particular dates at particular times during holidays in December of every year. This proposal would allow the draw tenders to spend the holiday with their families while still providing for the reasonable needs of navigation.

DATES: Comments and related material must reach the Coast Guard on or before November 26, 2007.

ADDRESSES: You may mail comments and related material to Commander (dpb), Fifth Coast Guard District, Federal Building, 1st Floor, 431 Crawford Street, Portsmouth, VA 23704-5004. The Fifth Coast Guard District maintains the public docket for this rulemaking. Comments and material received from the public, as well as documents indicated in this preamble as being available in the docket, will become part of this docket and will be available for inspection or copying at Commander (dpb), Fifth Coast Guard District between 8 a.m. and 4 p.m., Monday through Friday, except Federal holidays.

FOR FURTHER INFORMATION CONTACT: Waverly W. Gregory, Jr., Bridge Administrator, Fifth Coast Guard District, at (757) 398-6222.

SUPPLEMENTARY INFORMATION:

Request for Comments

We encourage you to participate in this rulemaking by submitting comments and related material. If you do so, please include your name and address, identify the docket number for this rulemaking CGD05-07-093, indicate the specific section of this document to which each comment applies, and give the reason for each comment. Please submit all comments and related material in an unbound format, no larger than 8½ by 11 inches, suitable for copying. If you would like a return receipt, please enclose a stamped, self-addressed postcard or envelope. We will consider all submittals received during the comment period. We may change this proposed rule in view of them.

Public Meeting

We do not now plan to hold a public meeting. But you may submit a request for a meeting by writing to Commander (dpb), Fifth Coast Guard District at the address under ADDRESSES explaining why one would be beneficial. If we determine that one would aid this rulemaking, we will hold one at a time and place announced by a later notice in the Federal Register.

Background and Purpose

The owner of the drawbridges, the Cape May County Bridge Commission (the Commission), requested changes to the operating regulations for the four drawbridges to allow them to operate on an advance notice basis at different times on Christmas Eve, Christmas Day and the day after Christmas of every year.

Over the years, the Commission had difficulty during the Christmas holiday in staffing their drawbridges: The Corson Inlet Bridge, at mile 0.9, at Strathmere; the Stone Harbor Boulevard Bridge, at NJICW mile 102.0, across Great Channel at Stone Harbor; the Two-Mile Bridge at NJICW mile 112.2, across Middle Thorofare in Wildwood Crest; and the Townsend Inlet Bridge, at mile 0.3 in Avalon.

In the past six years, the Commission has received written authorization from the Coast Guard that allowed the drawbridges to operate on a two-hour advance notice for vessel openings at designated times on Christmas Eve, Christmas Day and the day after Christmas that allowed the draw tenders to spend the holiday with their families while still providing for the reasonable needs of navigation.

A review of the bridge logs supplied by the Commission for the affected drawbridges reveals that they have not received any requests nor performed any bridge openings on Christmas Eve, Christmas Day or the day after Christmas for at least the previous nine years.

The Cape May County Bridge Commission Department of Public Works currently maintains a 24-hour telephone at (609) 368-4591 to request bridge openings. Qualified personnel will be on-call and ready for dispatch with two-hour advance notice for the following drawbridges:

Corson Inlet

The Corson Inlet Bridge, mile 0.9, at Strathmere has a vertical clearance of 15 feet above mean high water (MHW) and 18 feet above mean low water (MLW) in the closed position to vessels. The existing operating regulations are set out in 33 CFR 117.714. The Commission requested to change the current operating regulations by requiring the draw span to open on signal if at least two hours notice is given from 12:01 a.m. on December 25 until and including 6 a.m. on December 26 of every year.

New Jersey Intracoastal Waterway

The Stone Harbor Boulevard Bridge, at NJICW mile 102.0, across Great Channel at Stone Harbor has a vertical clearance of 15 feet above MHW and 11 feet above MLW in the closed position to vessels. The existing operating regulations are set out in 33 CFR 117.733(i). The Commission requested to change the current operating regulations by requiring the draw span to open on signal if at least two hours notice is given from 10 p.m. on December 24 until and including 6 a.m. on December 26 of every year.

The Two-Mile Bridge, at NJICW mile 112.2, across Middle Thorofare in Wildwood Crest has a vertical clearance of 23 feet above MHW and 27 feet above MLW. The existing regulations are set out in 33 CFR 117.733(k). The Commission requested to change the current operating regulations by requiring the draw span to open on signal if at least two hours notice is given from 10:30 p.m. on December 24 until and including 10:30 p.m. on December 25 of every year.

Townsend Inlet

The Townsend Inlet Bridge, at mile 0.3, in Avalon has a vertical clearance of 23 feet above MHW and 26 feet above MLW in the closed position to vessels. The existing regulations are set out in 33 CFR 117.757. The Commission requested to change the current operating regulations by requiring the draw span to open on signal if at least two hours notice is given from 11 p.m. on December 24 until and including 11 p.m. on December 25 of every year.

The Coast Guard believes that all of the proposed changes are reasonable because the drawbridges would still open on Christmas Eve, Christmas Day, and the day after Christmas, as applicable, after the advance notice is given.

Discussion of Proposed Rule

Corson Inlet

The proposed rule amends 33 CFR 117.714 by revising the operating regulations by extending the two-hour notice period in effect during the off season to include all of Christmas Day. The proposal would read as follows: The draw of the Corson Inlet Bridge, mile 0.9, at Strathmere, shall open on signal: Except, that from October 1 through May 15 from 10 p.m. to 6 a.m., and from 6 a.m. to 10 p.m. on December 25, the draw need open only if at least two hours notice is given.

New Jersey Intracoastal Waterway

This proposed rule amends 33 CFR 117.733 by revising paragraph (i), which details the operating regulations for the Stone Harbor Boulevard Bridge at NJICW mile 102.0, across Great Channel at Stone Harbor.

A new paragraph will be added at § 117.733(i)(3) to read that the draw shall open on signal from 10 p.m. on December 24 until 6 a.m. on December 26 if at least two hours notice is given.

This proposed rule also amends 33 CFR 117.733 by revising paragraph (k), which details the operating regulations for the Two-Mile Bridge, at NJICW mile 112.2, across Middle Thorofare in Wildwood Crest.

Paragraph (k) would state that the draw shall open on signal except: (1) From 9:15 a.m. to 10:30 a.m. on the fourth Sunday in March of every year, the draw need not open for vessels. If the fourth Sunday falls on a religious holiday, the draw need not open for vessels from 9:15 a.m. to 10:30 a.m. on the third Sunday of March of every year; and (2) from 10:30 p.m. on December 24 until and including 10:30 p.m. on December 26, the draw need open only if at least two hours notice is given.

Townsend Inlet

The proposed rule amends 33 CFR 117.757 by revising the operating regulations to read as follows: The draw of Townsend Inlet Bridge, mile 0.3 in Avalon, shall open on signal except: (1) From 9:15 a.m. to 2:30 p.m. on the fourth Sunday in March of every year, the draw need not open for vessels. If the fourth Sunday falls on a religious holiday, the draw need not open from 9:15 a.m. to 2:30 p.m. on the third Sunday of March of every year; and (2) from 11 p.m. on December 24 until 11 p.m. on December 25, the draw need open only if at least two hours notice is given.

Regulatory Evaluation

This proposed rule is not a “significant regulatory action” under section 3(f) of Executive Order 12866, Regulatory Planning, and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. We reached this conclusion based on the fact that the proposed changes have only a minimal impact on maritime traffic transiting the bridge. Mariners can plan their trips in accordance with the scheduled bridge openings to minimize delays, and vessels that can pass under the bridges without a bridge opening may do so at all times.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would not have a significant economic impact on a substantial number of small entities because the rule only adds minimal restrictions to the movement of navigation, mariners who plan their transits in accordance with the scheduled bridge openings can minimize delay and vessels that can pass under the bridges without a bridge opening may do so at all times.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Waverly W. Gregory, Jr., Bridge Administrator, Fifth Coast Guard District, (757) 398-6222. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.1D and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, (32)(e), of the Instruction, from further environmental documentation. Under figure 2-1, paragraph (32)(e), an “Environmental Analysis Check List” or “Categorical Exclusion Determination” is not required for this rule. Comments on this section will be considered before we make the final decision on whether to categorically exclude this rule from further environmental review.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; Department of Homeland Security Delegation No. 0170.1; 33 CFR 1.05-1(g).

2. Revise § 117.714 to read as follows:

§ 117.714 Corson Inlet

The draw of the Corson Inlet Bridge, mile 0.9, at Strathmere, shall open on signal; except that from October 1 through May 15 from 10 p.m. to 6 a.m., and from 6 a.m. to 10 p.m. on December 25, the draw need open only if at least two hours notice is given.

3. Section 117.733 is amended by adding a new paragraph (i)(3) and revising paragraph (k) to read as follows:

§ 117.733 New Jersey Intracoastal Waterway.

* * * * *

(i) * * *

(3) From 10 p.m. on December 24 until 6 a.m. on December 26, the draw need open only if at least two hours notice is given.

(k) The draw of Two-Mile Bridge, mile 112.2, across Middle Thorofare in Wildwood Crest, shall open on signal except:

(1) From 9:15 a.m. to 10:30 a.m. on the fourth Sunday in March of every year, the draw need not open for vessels. If the fourth Sunday falls on a religious holiday, the draw need not open for vessels from 9:15 a.m. to 10:30 a.m. on the third Sunday of March of every year.

(2) From 10:30 p.m. on December 24 until 10:30 p.m. on December 26, the draw need open only if at least two hours notice is given.

* * * * *

4. § 117.757 is revised to read as follows:

§ 117.757 Townsend Inlet

The draw of Townsend Inlet Bridge, mile 0.3 in Avalon, shall open on signal except:

(1) From 9:15 a.m. to 2:30 p.m. on the fourth Sunday in March of every year, the draw need not open for vessels. If the fourth Sunday falls on a religious holiday, the draw need not open from 9:15 a.m. to 2:30 p.m. on the third Sunday of March of every year.

(2) From 11 p.m. on December 24 until 11 p.m. on December 25, the draw need open only if at least two hours notice is given.

Dated: September 28, 2007.
Fred M. Rosa, Jr.,
Rear Admiral, U.S. Coast Guard, Commander, Fifth Coast Guard District.

[FR Doc. E7-19949 Filed 10-10-07; 8:45 am]

BILLING CODE 4910-15-P